ENVIRONMENTAL PROTECTION AGENCY

[EPA-HQ-OECA-2013-0346; FRL-9955-73-OEI]

Information Collection Request Submitted to OMB for Review and Approval; Comment Request; NESHAP for Area Sources: Acrylic and Modacrylic Fibers Production, Carbon Black Production, Chemical Manufacturing: Chromium Compounds, Flexible Polyurethane Foam Production and Fabrication, Lead Acid Battery Manufacturing, and Wood Preserving (Renewal)

AGENCY: Environmental Protection Agency (EPA).

ACTION: Notice.

SUMMARY: The Environmental Protection Agency has submitted an information collection request (ICR), “NESHAP for Area Sources: Acrylic and Modacrylic Fibers Production, Carbon Black Production, Chemical Manufacturing: Chromium Compounds, Flexible Polyurethane Foam Production and Fabrication, Lead Acid Battery Manufacturing, and Wood Preserving (40 CFR part 63, subparts LLLLLL, MMMMMM, NNNNNN, OOOOOO, PPPPPP, and QQQQQQ) (Renewal)” EPA ICR Number 2256.05, OMB Control Number 2060-0598, to the Office of Management and Budget (OMB) for review and approval in accordance with the Paperwork Reduction Act (44 U.S.C. 3501 et seq.). This is a proposed extension of the ICR, which is currently approved through December 31, 2016. Public comments were requested previously via the Federal Register (81 FR 26546) on May 3, 2016 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before January 26, 2017.

ADDRESSES: Submit your comments, referencing Docket ID Number EPA-HQ-OECA-2013-0346, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: EPA established NESHAP for seven area source categories. The requirements for two area source categories (Flexible Polyurethane Foam Production and Flexible Polyurethane Foam Fabrication) are combined in one Subpart. These standards include emissions limitations and work practice requirements for new and existing plants based on the generally available control technology or management practices (GACT) for each area source category. Potential respondents include one existing acrylic and modacrylic production facility, two existing chromium product manufacturing facilities, 500 existing flexible polyurethane foam production and fabrication facilities, 60 existing lead acid battery manufacturing facilities, and 393 existing wood preserving facilities. The total annual responses attributable to this ICR for existing sources are two one-time notifications; some existing facilities may be required to prepare a startup, shutdown, and malfunction plan, perform additional monitoring and recordkeeping, and/or conduct an initial performance test. The owner or operator of a new area source would be required to comply with all requirements of the General Provisions (40 CFR part 63, subpart A).

Form Numbers: None.

Respondents/affected entities: Acrylic and modacrylic fibers production, carbon black production, chemical manufacturing: Chromium compounds, flexible polyurethane foam production and fabrication, lead acid battery manufacturing, and wood preserving facilities.

Respondent's obligation to respond: Mandatory (40 CFR part 63, subparts LLLLLL, MMMMMM, NNNNNN, OOOOOO, PPPPPP, and QQQQQQ).

Estimated number of respondents: 956 (total).

Frequency of response: Initially, semiannually, and occasionally.

Total estimated burden: 6,340 hours (per year). Burden is defined at 5 CFR 1320.3(b).

Total estimated cost: $654,000 (per year), which includes neither annualized capital/startup nor operation & maintenance costs.

Changes in the Estimates: There is an adjustment increase in the respondent burden hours in this ICR compared to the previous ICR. This is not due to program changes; rather, the increase occurred due to a difference in the assumption and calculation methodology. This ICR assumes existing sources will need to re-familiarize themselves with the regulatory requirements each year. This change in assumption results in an increase in the estimated number of labor hours for each affected industry sector.

Spencer Clark,
Acting Director, Regulatory Support Division.

[FR Doc. 2016-31168 Filed 12-23-16; 8:45 am]

BILLING CODE 6560-50-P